DEPARTMENT OF THE INTERIOR

Fish and Wildlife Service

Egmont Key, Pinellas, and Passage Key National Wildlife Refuges

AGENCY: Fish and Wildlife Service, Interior.

ACTION: Notice of intent to prepare a Comprehensive Conservation Plan and Environmental Assessment for Egmont Key, Pinellas, and Passage Key National Wildlife Refuges located in Hillsborough, Pinellas, and Manatee Counties, Florida, respectively. These three refuges, known as the Tampa Bay Refuges, are managed as part of the Chassahowitzka National Wildlife Refuge Complex.

SUMMARY: This notice advises the public that the Fish and Wildlife Service, Southeast Region, intends to gather information necessary to prepare a comprehensive conservation plan and environmental assessment pursuant to the National Environmental Policy Act and its implementing regulations. The Service is furnishing this notice in compliance with the National Wildlife Refute System Administration Act of 1966, as amended (16 U.S.C. 668dd et seq.), to achieve the following:

(1) To advise other agencies and the public of our intentions, and

(2) To obtain suggestions and information on the scope of issues to include in the environmental documents.

The Service will solicit information from the public via open houses, meetings, and written comments. Special mailings, newspaper articles, and announcements will inform people in the general area near each refuge of the time and place of such opportunities for public input to the planning process.

DATES: To ensure consideration, comments must be received within 30 days of the date of this notice.

ADDRESSES: Address comments, questions, and requests for more information to the following: Mary Morris, Natural Resource Planner, St. Marks National Wildlife Refuge, P.O. Box 68, St. Marks, Florida 32355; Telephone 850/925-6121; e-mail mary_morris@fws.gov. Additional information concerning these refuges may be found at the Service's Internet site http://www.fws.gov/.

SUPPLEMENTARY INFORMATION: By Federal law, all lands within the National Wildlife Refuge System are to be managed in accordance with an approved comprehensive conservation plan. This plan guides management decisions and identifies the goals, long-range objectives, and strategies for achieving refuge purposes. The planning process will consider many elements, including habitat and wildlife management, habitat protection and acquisition, public use, and cultural resources. Public input to this planning process is essential.

Egmont Key National Wildlife Refuge was established in 1974 and consists of 350 acres. The refuge, accessible only by boat, provides nesting, feeding, and resting habitat for brown pelicans, terns, and other colonial nesting water birds.

Pinellas National Wildlife Refuge was established in 1951 and consists of 403 acres. The refuge, accessible only by boat, was established as a breeding ground for colonial bird species. It is comprised of several islands, including Indian, Tarpon, Mule, and Jackass Keys.

Passage Key National Wildlife Refuge was established in 1905 and consists of 30 acres. The refuge, accessible only by boat, provides nesting, feeding, and resting habitat for colonial water birds, including laughing gulls, royal terns, black skimmers, sandwich terns, brown pelicans, and oyster catchers.

Authority: This notice is published under the authority of the National Wildlife Refuge System Improvement Act of 1997, Public Law 105-57.

Dated: October 14, 2004.
Cynthia K. Dohner,
Acting Regional Director.

[FR Doc. 04-26660 Filed 12-2-04; 8:45 am]

BILLING CODE 4310-55-M